DEPARTMENT OF DEFENSE

GENERAL SERVICES ADMINISTRATION

NATIONAL AERONAUTICS AND SPACE ADMINISTRATION

[OMB Control No. 9000-0010; Docket No. 2024-0053; Sequence No. 6]

Submission for OMB Review; Progress Payments, SF 1443

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding progress payments.

DATES: Submit comments on or before June 20, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Benjamin Collins, Procurement Analyst, at telephone 850-826-0058, or benjamin.collins@gsa.gov.

SUPPLEMENTARY INFORMATION:

A. OMB Control Number, Title, and Any Associated Form(s)

9000-0010; Progress Payments, SF 1443; Standard Form (SF) 1443, Contractor's Request for Progress Payment.

B. Need and Uses

This clearance covers the information that contractors must submit to comply with the following Federal Acquisition Regulation (FAR) requirements:

FAR 52.232-16, Progress Payments, and SF 1443, Contractor's Request for Progress Payment. Paragraph (g) of this FAR clause requires contractors to furnish reports, certificates, financial statements, and other pertinent information (including estimates to complete) reasonably requested by contracting officers for the administration of fixed-price contracts under which the Government will provide progress payments based on costs. Each request for progress payment shall be submitted on an SF 1443.

Contracting officers use this information to administer progress payments under a contract. This collection of information is necessary for protection of the Government against financial loss through making of progress payments.

C. Annual Burden

Respondents: 6,169.

Total Annual Responses: 197,408.

Total Burden Hours: 82,911.

D. Public Comment

A 60-day notice was published in the Federal Register at 89 FR 18636, on March 14, 2024. No comments were received.

Obtaining Copies: Requesters may obtain a copy of the information collection documents from the GSA Regulatory Secretariat Division, by calling 202-501-4755 or emailing GSARegSec@gsa.gov. Please cite OMB Control No. 9000-0010, Progress Payments, SF 1443.

Janet Fry,
Director, Federal Acquisition Policy Division, Office of Governmentwide Acquisition Policy, Office of Acquisition Policy, Office of Governmentwide Policy.

[FR Doc. 2024-10981 Filed 5-17-24; 8:45 am]

BILLING CODE 6820-EP-P